DEPARTMENT OF THE INTERIOR

Bureau of Reclamation

[RR2530000, RX.00124960.0000000, 14XR0680A1]

Notice of Intent To Prepare an Environmental Impact; Statement/Environmental Impact Report and Notice of Public Scoping Meetings for the On-Project Plan for the Klamath Reclamation Project, Klamath County, Oregon, and Modoc and Siskiyou Counties, California

AGENCY: Bureau of Reclamation, Interior.

ACTION: Notice of intent and scoping meetings.

SUMMARY: The Bureau of Reclamation, the lead Federal agency, and the Klamath Water and Power Agency, the lead state agency, will prepare a joint Environmental Impact Statement/Environmental Impact Report (EIS/EIR) for the implementation and administration of the On-Project Plan (OPP) for the Klamath Reclamation Project. The purpose of the OPP is to align water supply and demand for the OPP Plan Area as defined in the Klamath Basin Restoration Agreement for the Sustainability of Public and Trust Resources and Affected Communities. Under the Klamath Basin Restoration Agreement, the preparation, implementation, and administration of the OPP is the responsibility of Klamath Water and Power Agency (KWAPA) and its approval is the responsibility of Reclamation. Therefore, Reclamation proposes to approve the OPP prepared by KWAPA and ensure the OPP is consistent with the KBRA. However, Reclamation will consider public input and analysis of impacts in the EIS/EIR as part of the process to inform its decision on whether or not to approve the OPP.

DATES: Submit written comments on the scope of the EIS/EIR by July 15, 2014. Two public scoping meetings will be held on the following dates and times:

• Tuesday, June 24, 2014, 10:00 a.m. to 11:30 a.m., Klamath Falls, Oregon.

• Wednesday, June 25, 2014, 5:30 p.m. to 7:00 p.m., Tulelake, California.

ADDRESSES: Send written comments on the scope of the EIS/EIR, or requests to be added to the EIS/EIR mailing list, to Ms. Tara Jane Campbell Miranda, Bureau of Reclamation, 6600 Washburn Way, Klamath Falls, Oregon 97603; or by email to sha-kfo-oppcmts@usbr.gov. Environmental documents for the On-Project Plan EIS/EIR will be available for review and download at https://www.usbr.gov/mp/.

Public scoping meetings will be held at the following locations:

• Klamath Falls—Klamath Community College Building 6, Room H138, 7390 South 6th Street, Klamath Falls, Oregon 97603

• Tulelake—the Tulelake-Butte Valley Fairgrounds, Home Economics Building-West Wing, 800 South Main Street, Tulelake, California 96134

FOR FURTHER INFORMATION CONTACT: Ms. Tara Jane Campbell Miranda, Bureau of Reclamation, (541) 880-2583; or Mark Oliver, Klamath Water and Power Agency Consultant, at (530) 229-3316.

SUPPLEMENTARY INFORMATION:

Background

Conflicts over water and other natural resources in the Klamath Basin between conservationists, Tribes, irrigators, fishermen, and State and Federal agencies have existed for decades. In particular, several events affecting the Klamath Basin have occurred in recent years:

• In 2001, water deliveries to irrigation contractors in the Bureau of Reclamation's (Reclamation) Klamath Project were substantially reduced.

• In 2002, returning adult salmon suffered a major die-off.

• In 2006, the commercial salmon fishing season was closed along 700 miles of the West Coast to protect weak Klamath River stocks and other major river salmon stocks.

• In 2010, 2012, and 2013, due to drought conditions, Reclamation's Klamath Project had a reduction in water deliveries resulting in short-term idling of farmland and increased groundwater pumping.

The United States, the States of California and Oregon, three Klamath River Basin Tribes, Klamath Project water users, and other Klamath River Basin stakeholders negotiated the Klamath Hydroelectric Settlement Agreement (KHSA) and the Klamath Basin Restoration Agreement (KBRA) to resolve long-standing disputes regarding a broad range of natural resource issues. The Parties entered into the KHSA for the purpose of resolving among them the pending Federal Energy Regulatory Commission (FERC) relicensing proceeding by establishing a process for potential facilities removal and operation of the Klamath Hydroelectric Project as licensed by FERC under Project No. 2082.

The parties, absent the Federal agencies, entered the KBRA which is intended to result in effective and durable solutions to: (1) Restore and sustain natural fish production and provide for full participation in ocean and river harvest opportunities of fish species throughout the Klamath Basin; (2) establish reliable water and power supplies which sustain agricultural uses, communities, and National Wildlife Refuges; and (3) contribute to the public welfare and the sustainability of all Klamath Basin communities. Upon the enactment of authorizing legislation, Federal agencies would become parties to the KBRA. Additional appropriations would likely be necessary for these agencies to fully implement their responsibilities under the agreement. Additional information about the KHSA and the KBRA is available at: http://klamathrestoration.gov and http://www.klamathcouncil.org.

In June 2013, a Klamath Basin Task Force made up of over 20 representatives from agencies, Tribes, and other Klamath Basin groups was established to address outstanding issues related to comprehensive settlement agreements of the Klamath River Basin. Working groups were formed to obtain a settlement of the tribal water issues in the Upper Basin above Upper Klamath Lake, identify a pathway to provide affordable power to basin irrigators, and to reduce the costs of the KBRA. Task Force findings or products may be incorporated into Federal legislation that may provide authorization and funding for the Settlement Agreements. Federal legislation is anticipated to be introduced by the Oregon Congressional delegation in 2014.

The On-Project Plan

The OPP for the Klamath Reclamation Project, one element of the KBRA, is described in Section 15.2. In accordance with Section 15.2.1, the OPP is to facilitate the use of Klamath Reclamation Project water supplies from Upper Klamath Lake and the Klamath River as established in the KBRA “to align water supply and demand” for an area defined as the On-Project Plan Area (OPPA). Pursuant to limitations on water availability, the OPP is also to facilitate and fulfill water delivery commitments for the Tule Lake and Lower Klamath National Wildlife Refuges on an annual and ongoing basis. KBRA section 15.2.2 assigns responsibility to develop, implement, and administer the OPP to the KWAPA, a Joint Powers/Inter-governmental Agency whose members are water agencies within the Klamath Reclamation Project in Oregon and California. KWAPA and its member entities are parties to the KBRA.

Section 15.2.3 of the KBRA states that in the development of the OPP, KWAPA: “shall consider and evaluate the following measures for short-term, intermittent, long term, and permanent application to meet the purpose of the plan: conservation easements, forbearance agreements, conjunctive use programs, efficiency measures, land acquisitions, water acquisitions, groundwater development, groundwater substitution, other voluntary transactions, water storage, and any other applicable measures.” Each measure was evaluated in detail during the development of the OPP using the following goals and objectives KWAPA established for the OPP:

• Maintain long-term sustainability of Klamath Reclamation Project agriculture

• Minimize reductions in irrigated agriculture in the OPPA and avoid any uncompensated reduction in irrigated agriculture

• Develop fair, equitable, and transparent strategies for developing and implementing the OPP

• Consider cost effectiveness of alternatives to the overall Klamath Basin economy and minimize third-party impacts

• Respect and address individual water district needs, concerns, and input throughout the coordination process through the use of the On-Project Plan Advisory Committee (a local committee specifically developed to provide input solely in the development of the OPP)

• Optimize groundwater use while meeting KBRA requirements and obligations, in addition to addressing relevant in-basin groundwater management objectives.

Implementation and administration of the OPP would be in compliance with applicable federal, state, and local laws, regulations, and agreements. Additional information about the OPP is available at: http://kwapa.org/programs#OPP.

Additional Information

The EIS/EIR will present the evaluation of potential impacts on the natural and human environment and provide an opportunity through scoping for the interested public, Native American tribes, governments, and organizations to provide input. Reclamation will consider this input and the analysis of impacts in the EIS/EIR as part of the process to inform its decision on whether or not to approve the OPP. Resources potentially affected by Reclamation's approval and KWAPA's implementation and administration of the OPP may include, but are not limited to: Water resources, including groundwater and water quality, biological resources, land uses including agricultural resources, historic and archaeological resources, environmental justice, Indian Trust Assets, air quality, climate change, greenhouse gas emissions, and socioeconomics including impacts to agricultural production.

Special Assistance for Public Scoping Meetings

Requests for sign language interpretation for the hearing impaired and all other special assistance needs to participate in the meetings may be submitted by any of the following methods at least five working days before the meeting:

• Email to: Ms. Tara Jane Campbell Miranda, Bureau of Reclamation, sha-kfo-oppcmts@usbr.gov

• U.S. Mail to: Ms. Tara Jane Campbell Miranda, Bureau of Reclamation, 6600 Washburn Way, Klamath Falls, Oregon, 97603

• Telephone: Ms. Tara Jane Campbell Miranda (541) 880-2583.

A telephone device for the hearing impaired (TDD) is available at 1 (800) 877-8339.

Public Disclosure

Before including your address, phone number, email address, or other personal identifying information in your comment, you should be aware that your entire comment-including your personal identifying information—may be made publicly available at any time. While you can ask us in your comment to withhold your personal identifying information from public review, we cannot guarantee that we will be able to do so.

Dated: May 29, 2014.
Anastasia T. Leigh,
Regional Environmental Officer, Mid-Pacific Region.

[FR Doc. 2014-13506 Filed 6-9-14; 8:45 am]

BILLING CODE 4310-MN-P